DEPARTMENT OF JUSTICE

Notice of Lodging of Proposed Consent Decree Under the Clean Water Act

On January 19, 2017, the Department of Justice lodged a Third Modified Consent Decree with the United States District Court for the District of Massachusetts in the lawsuit entitled United States of America and Commonwealth of Massachusetts v. Lynn Water and Sewer Commission, Civil Action No. 76-cv-02184-RGS.

The United States filed this lawsuit under the Clean Water Act, 33 U.S.C. 1251 et seq. The complaint seeks civil penalties and injunctive relief for violations of the Clean Water Act relating to the sewer works systems currently owned and operated by the Lynn Water and Sewer Commission (“Commission”). A Second Modified Consent Decree (“SCMD”) was entered in this action on June 21, 2001, which provided for implementation by the Commission of a long-term combined sewer overflow (“CSO”) control plan. The Commission completed some of the obligations required under the SMCD, but did not complete other obligations. In 2014, the Commission completed the Lynn Water and Sewer Commission Combined Sewer Overflow Supplemental Facilities Plan Update (“2014 CSO Plan”), which recommends alternative CSO abatement projects to certain obligations required under the SMCD.

The Third Modified Consent Decree (“TMCD”) requires the Commission to implement the CSO abatement projects recommended in the 2014 CSO Plan. The TMCD also requires the Commission to implement a program to detect and eliminate illicit discharges to the Commission's storm sewer system and to implement plans to improve management, operation, and maintenance of its sanitary sewage and other facilities. The TMCD also requires the Commission to pay a civil penalty of $125,000.

The publication of this notice opens a period for public comment on the TMCD. Comments should be addressed to the Assistant Attorney General, Environment and Natural Resources Division, and should refer to United States of America and Commonwealth of Massachusetts v. Lynn Water and Sewer Commission, D.J. Ref. No. 90-5-1-1-545B. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the consent decree may be examined and downloaded at this Justice Department Web site: https://www.justice.gov/enrd/consent-decrees. We will provide a paper copy of the consent decree upon written request and payment of reproduction costs. Please mail your request and payment to: Consent Decree Library, U.S. DOJ—ENRD, P.O. Box 7611, Washington, DC 20044-7611. Please enclose a check or money order for $30.25 (25 cents per page reproduction cost) payable to the United States Treasury.

Robert E. Maher Jr.,
Assistant Chief, Environmental Enforcement Section, Environment and Natural Resources Division.

[FR Doc. 2017-01848 Filed 1-26-17; 8:45 am]

BILLING CODE 4410-15-P